DEPARTMENT OF HEALTH AND HUMAN SERVICES

Centers for Disease Control and Prevention

Notice of Meeting of the ICD-9-CM Coordination and Maintenance Committee; Correction

SUMMARY: This document corrects a notice that was published in the Federal Register on February 7, 2013 (78 FR 9055-9056). The title of the meeting announcement should read as follows: Notice of Meeting of the ICD-9-CM Coordination and Maintenance Committee. The first sentence of the notice should read as follows: National Center for Health Statistics (NCHS), Classifications and Public Health Data Standards Staff announces the following meeting:

Name: ICD-9-CM Coordination and Maintenance Committee (C&M) meeting.

Time and Date: 9:00 a.m.-5:00 p.m., March 5, 2013.

Place: Centers for Medicare and Medicaid Services (CMS) Auditorium, 7500 Security Boulevard, Baltimore, Maryland 21244.

FOR FURTHER INFORMATION CONTACT: Donna Pickett, Medical Systems Administrator, Classifications and Public Health Data Standards Staff, NCHS, 3311 Toledo Road, Room 2337, Hyattsville, Maryland 20782, email dfp4@cdc.gov, telephone 301-458-4434 (diagnosis); Mady Hue, Health Insurance Specialist, Division of Acute Care, CMS, 7500 Security Boulevard, Baltimore, Maryland 21244, email marilu.hue@cms.hhs.gov, telephone 410-786-4510 (procedures).

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2013-03794 Filed 2-19-13; 8:45 am]

BILLING CODE 4163-18-P